ENVIRONMENTAL PROTECTION AGENCY

[EPA-HQ-OPP-2009-0361; FRL-9992-96]

Glyphosate Proposed Interim Registration Review Decision; Notice of Availability

AGENCY: Environmental Protection Agency (EPA).

ACTION: Notice.

SUMMARY: This document announces the availability of EPA's Proposed Interim Registration Review Decision for glyphosate and opens a 60-day public comment period on the proposed decision.

DATES: Comments must be received on or before July 5, 2019.

ADDRESSES: Submit your comments, identified by the docket identification (ID) number for the specific pesticide of interest provided in the Table in Unit IV, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For pesticide specific information, contact: The glyphosate registration review email address identified in the Table in Unit IV.

For general information on the registration review program, contact: Dana Friedman, Pesticide Re-Evaluation Division (7508P), Office of Pesticide Programs, Environmental Protection Agency, 1200 Pennsylvania Ave. NW, Washington, DC 20460-0001; telephone number: (703) 347-8827; email address: friedman.dana@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, contact the glyphosate registration review email address and phone number identified in the Table in Unit IV.

B. What should I consider as I prepare my comments for EPA?

1. Submitting CBI. Do not submit this information to EPA through regulations.gov or email. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

Registration review is EPA's periodic review of pesticide registrations to ensure that each pesticide continues to satisfy the statutory standard for registration, that is, the pesticide can perform its intended function without unreasonable adverse effects on human health or the environment. As part of the registration review process, the Agency has completed a proposed interim registration review decision for the pesticide glyphosate. Through this program, EPA is ensuring that each pesticide's registration is based on current scientific and other knowledge, including its effects on human health and the environment.

III. Authority

EPA is conducting its registration review of the chemical listed in the Table in Unit IV pursuant to section 3(g) of the Federal Insecticide, Fungicide, and Rodenticide Act (FIFRA), 7 U.S.C. 136a et seq., and the Procedural Regulations for Registration Review at 40 CFR part 155, subpart C. FIFRA section 3(g) provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this document announces the availability of EPA's proposed interim registration review decision for the pesticide shown in the following table and opens a 60-day public comment period on the proposed interim registration review decision.

Registration review case name and No. | Docket ID No. | Email and phone contact information
Glyphosate Case 0178 | EPA-HQ-OPP-2009-0361 | glyphosateRegReview@epa.gov, 703-347-0292.

The registration review docket for a pesticide includes earlier documents related to the registration review case. For example, the review opened with a Preliminary Work Plan, for public comment. A Final Work Plan was placed in the docket following public comment on the Preliminary Work Plan.

Glyphosate is a broad-spectrum systemic herbicide registered for use in various agricultural and non-agricultural settings. Agricultural use sites include glyphosate-resistant (transgenic) crops such as canola, corn, cotton, soybean, and sugar beet. Non-agricultural use sites include residential areas, turf, rights of ways, and aquatic areas. In 2017, EPA published comprehensive ecological and human health risk assessments for glyphosate. No human health risks were identified. The agency determined that glyphosate is not carcinogenic to humans. Potential ecological risks were identified for terrestrial and aquatic plants, birds, and mammals, primarily from exposure to spray drift. To ensure pollinators and their habitat are adequately protected from glyphosate, EPA included an evaluation of risk to pollinators and milkweed in the ecological risk assessment. Available data (laboratory and field-based) indicate no risk to pollinators. EPA is taking steps to protect pollinators and their habitat. In its proposed interim registration review decision for glyphosate, EPA is proposing spray drift management measures (e.g., release height, droplet size, and wind speed restrictions) to reduce off-site exposure to non-target wildlife. EPA is also proposing weed resistance management labeling (e.g., information on mode of action, scouting instructions, and reporting instructions for weed resistance) to preserve glyphosate as a valuable tool for growers.

The documents in the docket describe EPA's rationales for conducting risk assessments for the registration review of glyphosate, as well as the Agency's subsequent risk findings and consideration of possible risk mitigation measures. This proposed interim registration review decision is supported by the rationales included in those documents. Following public comment, the Agency will issue interim or final registration review decisions for glyphosate.

The registration review final rule at 40 CFR 155.58(a) provides for a minimum 60-day public comment period on all proposed interim registration review decisions. This comment period is intended to provide an opportunity for public input and a mechanism for initiating any necessary amendments to the proposed interim registration review decision. All comments should be submitted using the methods in ADDRESSES and must be received by EPA on or before the closing date. These comments will become part of the docket for glyphosate. Comments received after the close of the comment period will be marked “late.” EPA is not required to consider these late comments.

The Agency will carefully consider all comments received by the closing date and may provide a “Response to Comments Memorandum” in the docket. The interim registration review decision will explain the effect that any comments had on the interim decision and provide the Agency's response to significant comments.

Background on the registration review program is provided at: http://www.epa.gov/pesticide-reevaluation.

Authority: 7 U.S.C. 136 et seq.

Dated: April 24, 2019.
Charles Smith,
Acting Director, Pesticide Re-Evaluation Division, Office of Pesticide Programs.

[FR Doc. 2019-09222 Filed 5-3-19; 8:45 am]

BILLING CODE 6560-50-P